DEPARTMENT OF THE INTERIOR

Bureau of Land Management

[OR-027-1020-PI-020H; G-06-0004]

Notice of Public Meetings, Steens Mountain Advisory Council

AGENCY: Department of the Interior, Bureau of Land Management, Burns District Office.

ACTION: Notice of public meetings for the Steens Mountain Advisory Council.

SUMMARY: In accordance with the Steens Mountain Cooperative Management and Protection Act of 2000, the Federal Land Policy and Management Act of 1976, and the Federal Advisory Committee Act of 1972, the U.S. Department of the Interior, Bureau of Land Management, and the Steens Mountain Advisory Council will meet as indicated below.

DATES: The Steens Mountain Advisory Council will meet at the Bureau of Land Management, Burns District Office, 28910 Hwy 20 West, Hines, Oregon 97738 on October 27 and 28, 2005, and December 8 and 9, 2005. Meetings will begin at 8 a.m., local time, each day and will end at approximately 4:30 p.m., local time.

SUPPLEMENTARY INFORMATION: The Steens Mountain Advisory Council was appointed by the Secretary of the Interior on August 14, 2001, pursuant to the Steens Mountain Cooperative Management and Protection Act and rechartered in August 2005. The Steens Mountain Advisory Council's purpose is to provide representative counsel and advice to the Bureau of Land Management regarding (1) new and unique approaches to management of the land within the bounds of the Steens Mountain Cooperative Management and Protection Area, (2) cooperative programs and incentives for landscape management that meet human needs, maintain and improve the ecological and economic integrity of the area, and (3) preparation and implementation of a management plan for the Steens Mountain Cooperative Management and Protection Area.

Topics to be discussed at these meetings include operating protocols, vice-chair election, Transportation/Travel Plan, North Steens Ecosystem Restoration Project Environmental Impact Statement, Wildland Juniper Management Area, cooperative management agreements, implementation plan, on-the-ground projects update, monitoring, nondevelopment easements, and other matters that may reasonably come before the Steens Mountain Advisory Council.

The Steens Mountain Advisory Council meetings are open to the public. Information to be distributed to the Steens Mountain Advisory Council is requested prior to the start of each meeting. Public comment periods will be scheduled for 11 a.m. to 11:30 a.m., local time, each day. The amount of time scheduled for public presentations and meeting times may be extended when the authorized representative considers it necessary to accommodate all persons.

Under the Federal Advisory Committee Act management regulations (41 CFR 102-3.15(b)), in exceptional circumstances an agency may give less than 15 days notice of committee meeting notices published in the Federal Register. In this case, this notice is being published less than 15 days prior to the meeting due to the urgent need to meet deadlines to complete the Steens Mountain Cooperative Management and Protection Area Travel Plan (due December 2005) and the North Steens Ecosystem Restoration Project Environmental Impact Statement and to avoid additional delays.

FOR FURTHER INFORMATION CONTACT: Additional information concerning the Steens Mountain Advisory Council may be obtained from Rhonda Karges, Management Support Specialist, Bureau of Land Management Burns District Office, 28910 Hwy 20 West, Hines, Oregon 97738. Information can also be obtained by phone at (541) 573-4400 or e-mail Rhonda_Karges@blm.gov.

Dated: October 13, 2005.
Karla Bird,
Designated Federal Official, Andrews Resource Area Field Manager.

[FR Doc. 05-20995 Filed 10-19-05; 8:45 am]

BILLING CODE 4310-33-P